DEPARTMENT OF COMMERCE

National Oceanic and Atmospheric Administration

RIN: 0648-XR56

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in October.

DATES: The Council will begin its plenary session at 8 a.m. on Saturday October 3 continuing through Friday October 9, 2009. The Council's Advisory Panel (AP) will begin at 8 a.m., Thursday October 1 and continue through Tuesday October 6. The Scientific and Statistical Committee (SSC) will begin at 8 a.m. on Thursday October 1 and continue through Saturday October 3, 2009. All meetings are open to the public, except executive sessions.

ADDRESSES: The meetings will be held at the Anchorage Hilton Hotel, 500 W 3rd Avenue, Anchorage, AK

Council address: North Pacific Fishery Management Council, 605 W. 4th Avenue, Suite 306, Anchorage, AK 99501-2252.

FOR FURTHER INFORMATION CONTACT: David Witherell, Council staff, telephone: (907) 271-2809.

SUPPLEMENTARY INFORMATION: Council Plenary Session: The agenda for the Council's plenary session will include the following issues. The Council may take appropriate action on any of the issues identified.

1. Reports:

Election of Officers

Executive Director's Report

NMFS Management Report

Alaska Department of Fish & Game Report (including report on Board of Fish Proposals)

U.S. Coast Guard Report

U.S. Fish & Wildlife Service Report

Protected Species Report

2. Gulf of Alaska (GOA) Pacific Cod Allocation: Initial review GOA Pacific cod sector split.

3. GOA Rockfish Program: Discussion paper and action as necessary.

4. Observer Program: Receive report on electronic monitoring Exempted Fishing Permit (EFP) Phase two; review implementation analysis; receive Observer Advisory Committee report and action as necessary.

5. BSAI Crab Issues: BSAI Crab Regional Delivery Relief, identify preliminary preferred alternative; Initial Review of Crab Right of First Refusal provisions; Review proposals to address western Aleutian Island golden king crab fishery; Review outline for 5-year review of the program; Approve BSAI Crab Stock Assessment Fishery Evaluation (SAFE) and Over Fishing Limits (OFLs); receive discussion paper on Prohibited Species Catch (PSC) limits; Review status of Saint Matthew & Pribilof Blue King Crab and Opilio rebuilding plans.

6. Groundfish Actions: Final action on bottom trawl gear sweep requirements for flatfish trawl fishery; final action on management of BSAI skate complex; receive Plan Team report; approve proposed catch specifications

7. Permit Fees: Final action on permit fees.

8. Salmon Bycatch: Initial review of salmon bycatch data collection; receive Geiger/Pella report on salmon bycatch sampling. (SSC only/and NMFS salmon sampling protocol)

9. Groundfish Issues: Review progress on Annual Catch Limits (ACLs) requirements; Review discussion paper on GOA Tanner and Chinook bycatch; Approve 5-year Research Priorities; Habitat Area Particular Concern (HAPC) evaluation criteria (SSC only).

10. Halibut Issues: Three-year charter halibut logbook review.

11. Staff Tasking: Review Committees and tasking; review Rural Outreach Committee report; consider additional alternative for Amendment 93 per NMFS request.

12. Other Business

The SSC agenda will include the following issues:

1. Observer Program

2. Bering Sea Crab

3. Groundfish Actions

4. Salmon Bycatch

5. Groundfish Issues

6. Halibut Issues

The Advisory Panel will address most of the same agenda issues as the Council, except for #1 reports. The Agenda is subject to change, and the latest version will be posted at http://www.alaskafisheries.noaa.gov/npfmc/

Special Accommodations

These meetings are physically accessible to people with disabilities. Requests for sign language interpretation or other auxiliary aids should be directed to Gail Bendixen at (907) 271-2809 at least 7 working days prior to the meeting date.

Dated: September 8, 2009.
Tracey L. Thompson,
Acting Director, Office of Sustainable Fisheries, National Marine Fisheries Service.

[FR Doc. E9-21938 Filed 9-10-09; 8:45 am]

BILLING CODE 3510-22-S